INTERNATIONAL TRADE COMMISSION

[Inv. No. 332-509 and Inv. No. 332-510]

Small and Medium-Sized Enterprises: U.S. and EU Export Activities, and Barriers and Opportunities Experienced by U.S. Firms and Small and Medium-Sized Enterprises: Characteristics and Performance

AGENCY: United States International Trade Commission.

ACTION: Rescheduling of Washington, DC public hearing.

SUMMARY: The Commission has rescheduled to March 18, 2010, the Washington, DC public hearing in these investigations previously scheduled for February 9-10, 2010. The February 9-10 hearing was cancelled when Federal Government activity was cancelled due to a snow storm.

Persons wishing to appear at the March 18 hearing should file requests to appear, or confirm earlier requests to appear, in accordance with the procedures below. The dates and procedures relating to hearings in these investigations in St. Louis, MO, on March 10, 2010, and Portland, OR, on March 12, 2010, remain the same as previously announced.

DATES:

March 8, 2010: Deadline for filing requests to appear at the Washington hearing.

March 10, 2010: Deadline for filing pre-hearing briefs, statements, or summaries, Washington hearing.

March 18, 2010, 9:30 am: Washington public hearing.

March 26, 2010: Deadline for filing post-hearing briefs and statements for the Washington hearing.

ADDRESSES: All Commission offices, including the Commission's hearing rooms, are located in the United States International Trade Commission Building, 500 E Street SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Project Leaders Justino De La Cruz (202-205-3252 or justino.delacruz@usitc.gov) or William Deese (202-205-2626 or william.deese@usitc.gov) for information specific to these investigations. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background Information: As previously announced, the hearings relate to the second and third of a series of three investigations that the Commission is conducting under section 332(g) of the Tariff Act of 1930 (19 U.S.C. 1332(g)) at the request of the United States Trade Representative (USTR). The Commission delivered its report to the USTR on the first investigation, No. 332-508, Small and Medium-Sized Enterprises: Overview of Participation in U.S. Exports, on January 12, 2010, and it is available to the public at www.usitc.gov. The Commission is scheduled to deliver its reports to the USTR on the second and third investigations, investigation No. 332-509, Small and Medium-Sized Enterprises: U.S. and EU Export Activities, and Barriers and Opportunities Experienced by U.S. Firms, and investigation No. 332-510, Small and Medium-Sized Enterprises: Characteristics and Performance, by July 6, 2010, and October 6, 2010, respectively. Notices announcing institution of the three investigations were published in the Federal Register of October 28, 2009 (74 FR 55581); December 1, 2009 (74 FR 62812); and December 11, 2009 (74 FR 65787). A notice announcing the time and place of the hearings in St. Louis, MO and Portland, OR was published in the Federal Register of February 4, 2010 (75 FR 5804).

Washington Hearing: The rescheduled Washington hearing will be held in the U.S. International Trade Commission Building, 500 E Street, SW., Washington, DC, beginning at 9:30 a.m. on Thursday, March 18, 2010. The hearing will be open to the public. Accordingly, persons testifying should not include confidential business information in their testimony. Any person desiring to submit confidential business information to the Commission in these investigations should do so in writing in accordance with the procedures set out in the “Written Submissions” section below.

Notice of Appearance: Written requests to appear at the Washington hearing must be filed with the Secretary to the Commission in Washington, DC by 5:15 p.m. March 8, 2010. The request, which may be in the form of a letter and which should be on company or other appropriate stationery, should identify the hearing at which the person wishes to appear, the investigation to which their testimony pertains (it could be both investigations), their name, title, and company or other organizational affiliation (if any), address, telephone number, e-mail address, and industry or main line of business of the company if any they are representing. Requests to appear must be made by post mail or delivered in person (see ADDRESSES). The Commission will also accept requests to appear filed by e-mail to SMEhearings@usitc.gov, or through Laura Bloodgood at laura.bloodgood@usitc.gov. The Commission does not accept requests filed by fax. Persons who previously filed requests to appear in connection with the February 9-10 hearing dates should re-confirm their earlier requests to appear or indicate that they will be unable to appear.

Pre- and Post-Hearing Briefs and Statements, Summaries: Participants are encouraged to provide a pre-hearing brief or statement or, in lieu thereof, may provide a one-page summary of the testimony they plan to present. Such summaries will be placed in the public record and therefore should not include any confidential business information. Any confidential business information included in a pre-hearing brief or statement should be submitted in accordance with the procedures set forth below under “Written Submissions.” Post-hearing briefs and statements are generally for the purpose of responding to matters raised at the hearing, including questions asked by the Commissioners or testimony presented by other interested parties.

Written Submissions: In lieu of or in addition to participating in the hearing, interested parties are invited to file written submissions concerning these investigations. All written submissions should be addressed to the Secretary to the Commission, and all such submissions (other than pre- and post-hearing statements) should be received not later than 5:15 p.m., March 26, 2010, in investigation No. 332-509 and May 28, 2010, in investigation No. 332-510 as previously announced. One signed original (or a copy so designated) and fourteen (14) copies of each document must be filed. In the event that confidential treatment of a document is requested, at least four (4) additional copies must be filed, in which the confidential information must be deleted (see below for further information regarding confidential business information). Written submissions may be filed by post mail or delivered in person (see ADDRESSES), or filed using the Commission's electronic filing procedure described below. To use the Commission's electronic filing procedure, filers must first be registered users of the Commission's Electronic Document Information System (EDIS), accessible from the USITC Web site (http://www.usitc.gov/secretary/edis.htm). The Commission's rules for electronic filing are available in its Handbook on Electronic Filing Procedures (http://www.usitc.gov/secretary/fed_reg_notices/rules/handbook_on_electronic_filing.pdf). All written submissions must conform with the provisions of section 201.8 of the Commission's Rules of Practice and Procedure (19 CFR 201.8). Persons with questions regarding electronic filing and EDIS should contact the Office of the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In his request letter, the USTR stated that his office intends to make the Commission's reports available to the public in their entirety, and asked that the Commission not include any confidential business information or national security classified information in the reports that the Commission transmits to his office. Any confidential business information received by the Commission in these investigations and used in preparing this report will not be published in a manner that would reveal the operations of the firm supplying the information.

By order of the Commission.
Issued: February 24, 2010.
Marilyn R. Abbott,
Secretary to the Commission.

[FR Doc. 2010-4264 Filed 3-1-10; 8:45 am]

BILLING CODE 7020-02-P